DEPARTMENT OF ENERGY

Federal Energy Regulatory Commission

Combined Notice of Filings #1

Take notice that the Commission received the following exempt wholesale generator filings:

Docket Numbers: EG12-98-000.

Applicants: Brookfield Smoky Mountain Hydropower LLC.

Description: Notice of Self-Certification of Exempt Wholesale Generator Status of Brookfield Smoky Mountain Hydropower LLC.

Filed Date: 8/14/12.

Accession Number: 20120814-5061.

Comments Due: 5 p.m. ET 9/4/12.

Docket Numbers: EG12-99-000.

Applicants: Horse Butte Wind I LLC.

Description: EWG Self-Certification of Horse Butte Wind I LLC.

Filed Date: 8/14/12.

Accession Number: 20120814-5065.

Comments Due: 5 p.m. ET 9/4/12.

Take notice that the Commission received the following electric rate filings:

Docket Numbers: ER12-1470-001.

Applicants: Energia Sierra Juarez U.S., LLC.

Description: Energia Sierra Juarez U.S. LLC Revised MBR Tariff to be effective 10/1/2012.

Filed Date: 8/13/12.

Accession Number: 20120813-5129.

Comments Due: 5 p.m. ET 9/4/12.

Docket Numbers: ER12-1800-001.

Applicants: Public Service Company of New Mexico.

Description: OATT Attachment R Compliance Filing to be effective 7/15/2012.

Filed Date: 8/13/12.

Accession Number: 20120813-5125.

Comments Due: 5 p.m. ET 9/4/12.

Docket Numbers: ER12-2444-000.

Applicants: North Sky River Energy, LLC.

Description: North Sky River, LLC Market-Based Rate Tariff to be effective 10/13/2012.

Filed Date: 8/14/12.

Accession Number: 20120814-5043.

Comments Due: 5 p.m. ET 9/4/12.

Docket Numbers: ER12-2445-000.

Applicants: Dynegy South Bay, LLC.

Description: Notice of Cancellation to be effective 8/15/2012.

Filed Date: 8/14/12.

Accession Number: 20120814-5094.

Comments Due: 5 p.m. ET 9/4/12.

Docket Numbers: ER12-2446-000.

Applicants: MidAmerican Energy Company.

Description: Joint Pricing Zone Revenue Allocation Agreement to be effective 9/1/2012.

Filed Date: 8/14/12.

Accession Number: 20120814-5095.

Comments Due: 5 p.m. ET 9/4/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 14, 2012.
Nathaniel J. Davis, Sr.,
Deputy Secretary.

[FR Doc. 2012-21649 Filed 8-31-12; 8:45 am]

BILLING CODE 6717-01-P